DEPARTMENT OF THE INTERIOR

Bureau of Land Management

[LLES956000-L14200000-BJ0000-LXSITRST0000]

Eastern States: Filing of Plats of Survey

AGENCY: Bureau of Land Management, Interior.

ACTION: Notice of Filing of Plats of Survey; Minnesota and Wisconsin.

SUMMARY: The Bureau of Land Management (BLM) will file the plats of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey.

SUPPLEMENTARY INFORMATION: These surveys were requested by the Bureau of Indian Affairs.

The lands surveyed are:

Fifth Principal Meridian, Minnesota

T. 114 N., R 15 W.

The plat of survey represents the dependent resurvey of a portion of the South and West boundaries, a portion of the subdivisional lines, and the subdivision of Sections 28-33, and the survey of a tract of land in Section 31 and adjusted record meanders in Sections 31 and 32, in Township 114 North, Range 15 West, of the Fifth Principal Meridian, in the State of Minnesota, and was accepted June 22, 2010.

Fourth Principal Meridian, Wisconsin

T. 28 N., R 15 E.

The plat of survey represents the dependent resurvey of a portion of the South boundary, a portion of the subdivisional lines, and the survey of the Casino Tract in Sections 35 and 36, in Township 28 North, Range 15 East, of the Fourth Principal Meridian, in the State of Wisconsin, and was accepted June 21, 2010.

T. 29 N., R 16 E.

The plat of survey represents the dependent resurvey of a portion of the West boundary, a portion of the subdivisional lines, and the subdivision of Section 18, in Township 29 North, Range 16 East, of the Fourth Principal Meridian, in the State of Wisconsin, and was accepted June 22, 2010.

T. 28 N., R 15 E.

The plat of survey represents the survey of the Standing Pines Tract in Section 36, in Township 28 North, Range 15 East, of the Fourth Principal Meridian, in the State of Wisconsin, and was accepted June 21, 2010.

We will place copies of the plats we described in the open files. They will be available to the public as a matter of information.

If BLM receives a protest against a survey, as shown on the plat, prior to the date of the official filing, we will stay the filing pending our consideration of the protest.

We will not officially file the plats until the day after we have accepted or dismissed all protests and they have become final, including decisions on appeals.

Dated: June 25, 2010.
Dominica Van Koten,
Chief Cadastral Surveyor.

[FR Doc. 2010-16737 Filed 7-8-10; 8:45 am]

BILLING CODE 4310-GJ-P